DEPARTMENT OF HEALTH AND HUMAN SERVICES

Food and Drug Administration

21 CFR Chapter 1

Change of Address; Technical Amendment

AGENCY: Food and Drug Administration, HHS.

ACTION: Final rule; technical amendment.

SUMMARY: The Food and Drug Administration (FDA) is amending its regulations to reflect a change in the address for the Dockets Management Branch (DMB). This action is editorial in nature and is intended to improve the accuracy of the agency's regulations.

EFFECTIVE DATE: May 9, 2003.

FOR FURTHER INFORMATION CONTACT: Joyce Strong, Office of Policy and Planning (HF-27), Food and Drug Administration, 5600 Fishers Lane, Rockville, MD 20857, 301-827-7010.

SUPPLEMENTARY INFORMATION: In the Federal Register of June 16, 1998 (63 FR 32888), FDA published a notice announcing the relocation of DMB from 12420 Parklawn Dr., rm. 1-23, Rockville, MD 20857, to its current location at 5630 Fishers Lane, rm. 1061, Rockville, MD 20852. This document amends FDA's regulations to reflect DMB's change of address by removing the entire outdated address wherever it appears and by adding the new address in its place in 21 CFR parts 3, 7, 10, 12, 17, 25, 60, 100, 101, 109, 184, 201, 312, 314, 328, 330, 355, 500, 509, 520, 522, 601, 808, 812, 814, 1030, 1240, and 1250.

Publication of this document constitutes final action on these changes under the Administrative Procedure Act (5 U.S.C. 553). Notice and public procedure are unnecessary because FDA is merely correcting nonsubstantive errors.

Therefore, under the Federal Food, Drug, and Cosmetic Act and under authority delegated to the Commissioner of Food and Drugs, 21 CFR chapter I is amended as follows:

1. Parts 3, 7, 10, 12, 17, 25, 60, 100, 101, 109, 184, 201, 312, 314, 328, 330, 355, 500, 509, 520, 522, 601, 808, 812, 814, 1030, 1240, and 1250 are amended by removing “12420 Parklawn Dr., rm. 1-23, Rockville, MD 20857” or “rm. 1-23, 12420 Parklawn Dr., Rockville, MD 20857” wherever they appear and by adding in their place “5630 Fishers Lane, rm. 1061, Rockville, MD 20852.”

Dated: May 2, 2003.
Jeffrey Shuren,
Assistant Commissioner for Policy.

[FR Doc. 03-11650 Filed 5-8-03; 8:45 am]

BILLING CODE 4160-01-S